DEPARTMENT OF HOMELAND SECURITY

Coast Guard

33 CFR Part 117

[Docket No. USCG-2014-0877]

Drawbridge Operation Regulation; Atlantic Intracoastal Waterway (AIWW), Chesapeake, VA

AGENCY: Coast Guard, DHS.

ACTION: Notice of deviation from drawbridge regulations.

SUMMARY: The Coast Guard has issued a temporary deviation from the operating schedule that governs the I-64 (High Rise) Bridge across the AIWW, South Branch of the Elizabeth River, mile 7.1, at Chesapeake, VA. This deviation is necessary to facilitate maintenance work on the movable spans drive machinery. This temporary deviation allows the drawbridge to remain in the closed to navigation position.

DATES: This deviation is effective from 12:01 a.m. on November 1, 2014 to noon on November 2, 2014.

ADDRESSES: The docket for this deviation, [USCG-2014-0877] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mrs. Kashanda Booker, Bridge Administration Branch Fifth District, Coast Guard; telephone (757) 398-6227, email Kashanda.l.booker@uscg.mil. If you have questions on reviewing the docket, call Cheryl Collins, Program Manager, Docket Operations, (202) 366-9826.

SUPPLEMENTARY INFORMATION: The Virginia Department of Transportation, who owns and operates this bridge, has requested a temporary deviation from the current operating regulation set out in 33 CFR 117.997(e), to facilitate maintenance of the moveable spans on the structure.

The current operating schedule for the bridge is set out in 33 CFR 117.997(e) which requires the bridge open on signal if at least 24 hours notice is given. The High Rise Bridge has vertical clearances in the closed position of 65 feet above mean high water.

Under this temporary deviation, the drawbridge will be closed to navigation from 12:01 a.m. on November 1, 2014 to noon on November 2, 2014. Emergency openings cannot be provided.

Vessels able to pass under the bridge in the closed position may do so at any time and are advised to proceed with caution. There are currently no alternate routes. The Coast Guard will also inform additional waterway users through our Local and Broadcast Notices to Mariners of the closure periods for the bridge so that vessels can arrange their transits to minimize any impacts caused by the temporary deviation.

In accordance with 33 CFR 117.35(e), the drawbridge must return to its regular operating schedule immediately at the end of the effective period of this temporary deviation. This deviation from the operating regulations is authorized under 33 CFR 117.35.

Dated: October 6, 2014.
Waverly W. Gregory, Jr.
Bridge Program Manager, Fifth Coast Guard District.

[FR Doc. 2014-24772 Filed 10-16-14; 8:45 am]

BILLING CODE 9110-04-P